DEPARTMENT OF ENERGY

Federal Energy Regulatory Commission

Combined Notice of Filings #2

Take notice that the Commission received the following exempt wholesale generator filings:

Docket Numbers: EG25-129-000.

Applicants: Breckinridge Wind, LLC.

Description: Breckinridge Wind, LLC submits Notice of Self-Certification of Exempt Wholesale Generator Status.

Filed Date: 2/5/25.

Accession Number: 20250205-5156.

Comment Date: 5 p.m. ET 2/26/25.

Docket Numbers: EG25-130-000.

Applicants: EXUS NM Data Center IV, LLC.

Description: EXUS NM Data Center IV, LLC submits Notice of Self-Certification of Exempt Wholesale Generator Status.

Filed Date: 2/5/25.

Accession Number: 20250205-5158.

Comment Date: 5 p.m. ET 2/26/25.

Docket Numbers: EG25-131-000.

Applicants: Cedar Bluff Wind Energy, LLC.

Description: Cedar Bluff Wind Energy, LLC submits Notice of Self-Certification of Exempt Wholesale Generator Status.

Filed Date: 2/5/25.

Accession Number: 20250205-5169.

Comment Date: 5 p.m. ET 2/26/25.

Docket Numbers: EG25-132-000.

Applicants: Mammoth Plains Wind, LLC.

Description: Mammoth Plains Wind, LLC submits Notice of Self-Certification of Exempt Wholesale Generator Status.

Filed Date: 2/5/25.

Accession Number: 20250205-5170.

Comment Date: 5 p.m. ET 2/26/25.

Docket Numbers: EG25-133-000.

Applicants: Seiling Wind Energy II, LLC.

Description: Seiling Wind Energy II, LLC submits Notice of Self-Certification of Exempt Wholesale Generator Status.

Filed Date: 2/5/25.

Accession Number: 20250205-5171.

Comment Date: 5 p.m. ET 2/26/25.

Docket Numbers: EG25-134-000.

Applicants: Palo Duro Wind, LLC.

Description: Palo Duro Wind, LLC submits Notice of Self-Certification of Exempt Wholesale Generator Status.

Filed Date: 2/5/25.

Accession Number: 20250205-5176.

Comment Date: 5 p.m. ET 2/26/25.

Take notice that the Commission received the following Complaints and Compliance filings in EL Dockets:

Docket Numbers: EL25-55-000.

Applicants: Central Transmission, LLC, LS Power Grid DRS Holdings, LLC, LS Power Midcontinent, LLC, LSP Transmission Holdings II, LLC, LSP Transmission Holdings II, LLC, et al. v. Midcontinent Independent System Operator, Inc.

Description: Complaint of LSP Transmission Holdings II, LLC, et al. v. Midcontinent Independent System Operator, Inc.

Filed Date: 2/4/25.

Accession Number: 20250204-5214.

Comment Date: 5 p.m. ET 2/24/25.

Take notice that the Commission received the following electric rate filings:

Docket Numbers: ER10-2475-035; ER10-1520-020; ER10-1521-020; ER10-2474-034; ER10-3246-028; ER11-4666-008; ER11-4667-008; ER12-295-007; ER13-1266-054; ER15-2211-051; ER22-1385-014; ER23-674-010; ER23-676-010; ER24-1587-003.

Applicants: AlbertaEx, L.P., BHE Power Watch, LLC, BHE Wind Watch, LLC, BHER Market Operations, LLC., MidAmerican Energy Services, LLC, CalEnergy, LLC, NaturEner Rim Rock Wind Energy, LLC, NaturEner Glacier Wind Energy 2, LLC, NaturEner Glacier Wind Energy 1, LLC, PacifiCorp, Sierra Pacific Power Company, Occidental Power Marketing, L.P., Occidental Power Services, Inc., Nevada Power Company.

Description: Notice of Non-Material Change in Status of Nevada Power Company, et al.

Filed Date: 1/31/25.

Accession Number: 20250131-5567.

Comment Date: 5 p.m. ET 2/21/25.

Docket Numbers: ER11-3859-026; ER14-1699-016; ER17-436-012; ER21-1810-003.

Applicants: Marco DM Holdings, L.L.C., Marcus Hook Energy, L.P., Milford Power, LLC, Dighton Power, LLC.

Description: Amendment to 04/30/2024, Notice of Non-Material Change in Status of Dighton Power, LLC et al.

Filed Date: 1/31/25.

Accession Number: 20250131-5552.

Comment Date: 5 p.m. ET 2/21/25.

Docket Numbers: ER21-2128-003; ER10-1291-027; ER10-2346-014; ER10-2353-014; ER10-2357-013; ER10-2361-014; ER10-2368-012; ER10-2369-012; ER10-2381-016; ER10-2382-013; ER10-2383-014; ER10-2384-012; ER10-2385-015; ER10-2394-009; ER10-2395-009; ER10-2812-020; ER10-2843-019; ER11-2206-017; ER11-2207-017; ER11-2209-017; ER11-2210-017; ER11-2211-017; ER11-2855-031; ER11-2856-031; ER11-2857-031; ER11-3642-023; ER11-3727-023; ER11-4351-016; ER12-21-029; ER12-1238-012; ER12-1239-012; ER12-1711-023; ER13-1150-015; ER13-1151-015; ER13-1991-035; ER13-1992-035; ER14-2820-012; ER14-2821-012; ER16-853-007; ER16-855-007; ER16-856-007; ER16-857-007; ER16-858-007; ER16-860-007; ER16-861-007; ER18-814-008; ER18-2033-004; ER19-672-008; ER19-843-008; ER19-844-004; ER19-1061-008; ER19-1062-004; ER19-1063-008; ER19-1200-013; ER20-486-008; ER20-2014-003; ER21-963-005; ER21-1923-004; ER21-1947-004; ER21-2129-003; ER22-529-004; ER23-175-005; ER23-1577-003; ER23-2403-002; ER23-2406-002; ER24-139-001; ER24-3059-001.

Applicants: Dan's Mountain Wind Force, LLC, Cedar Creek Wind, LLC, Arica Solar, LLC, Victory Pass I, LLC, Daggett Solar Power 2 LLC, Daggett Solar Power 3 LLC, 299F2M WHAM8 SOLAR, LLC, 276FED WHAM8 SOLAR, LLC, NedPower Mount Storm LLC, Black Rock Wind Force, LLC, Silverstrand Grid, LLC, Rattlesnake Flat, LLC, Golden Fields Solar III, LLC, Clearway Power Marketing LLC, Solar Borrego I LLC, Solar Avra Valley LLC, Solar Alpine LLC, Solar Roadrunner LLC, Solar Blythe LLC, Marsh Landing LLC, Saavi Energy Solutions, LLC, Carlsbad Energy Center LLC, Iron Springs Solar, LLC, Granite Mountain Solar West, LLC, Granite Mountain Solar East , LLC, Escalante Solar III, LLC, Escalante Solar II, LLC, Escalante Solar I, LLC, Enterprise Solar, LLC, Spring Canyon Energy III LLC, Spring Canyon Energy II LLC, Desert Sunlight 300, LLC, Desert Sunlight 250, LLC, Alta Wind XI, LLC, Alta Wind X, LLC, High Plains Ranch II, LLC, Crofton Bluffs Wind, LLC, Broken Bow Wind, LLC, Agua Caliente Solar, LLC, Pinnacle Wind, LLC, El Segundo Energy Center LLC, Tanner Street Generation, LLC, Sun City Project LLC, Sand Drag LLC, Avenal Park LLC, Alta Wind I, LLC, Alta Wind III, LLC, Alta Wind II, LLC, Alta Wind IV, LLC, Alta Wind V, LLC, GenConn Middletown LLC, GenConn Devon LLC, Colorado Power Partners, BIV Generation Company, L.L.C., Elkhorn Ridge Wind, LLC, Mountain Wind Power, LLC, Mountain Wind Power II LLC, San Juan Mesa Wind Project, LLC, Walnut Creek Energy, LLC, Taloga Wind, LLC, Laredo Ridge Wind, LLC, Wildorado Wind, LLC, Sleeping Bear, LLC, Lookout WindPower LLC, Forward WindPower LLC, GenConn Energy LLC, 0HAM WHAM8 SOLAR, LLC.

Description: Notice of Change in Status of 0HAM WHAM8 SOLAR, LLC, et al.

Filed Date: 1/31/25.

Accession Number: 20250131-5566.

Comment Date: 5 p.m. ET 2/21/25.

Docket Numbers: ER21-2818-008.

Applicants: Tri-State Generation and Transmission Association, Inc.

Description: Compliance filing: Revisions to Rate Schedule No. 281 in Compliance with the December 5 Order to be effective 11/1/2021.

Filed Date: 2/5/25.

Accession Number: 20250205-5151.

Comment Date: 5 p.m. ET 2/26/25.

Docket Numbers: ER23-167-001; ER23-166-001; ER23-168-001; ER24-1420-003; ER24-1421-003.

Applicants: Superstition Energy Storage LLC, Sierra Estrella Energy Storage LLC, Cross Town Energy Storage, LLC, Energy Storage Resources, LLC, Cranberry Point Energy Storage, LLC.

Description: Notice of Change in Status of Cranberry Point Energy Storage, LLC, et al.

Filed Date: 1/31/25.

Accession Number: 20250131-5574.

Comment Date: 5 p.m. ET 2/21/25.

Docket Numbers: ER24-2720-000; ER25-1177-000.

Applicants: Ohio Power Company, Ohio Power Company.

Description: Revised Refund Report of Ohio Power Company to comply with the 01/16/2025 Commission order.

Filed Date: 1/31/25.

Accession Number: 20250131-5563.

Comment Date: 5 p.m. ET 2/21/25.

Docket Numbers: ER25-1223-000.

Applicants: Michigan Power Limited Partnership.

Description: § 205(d) Rate Filing: Revised MBR Tariff—Designation as Category 1 Seller in Central Region to be effective 2/6/2025.

Filed Date: 2/5/25.

Accession Number: 20250205-5127.

Comment Date: 5 p.m. ET 2/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 5, 2025.
Carlos D. Clay,
Deputy Secretary.

[FR Doc. 2025-02450 Filed 2-10-25; 8:45 am]

BILLING CODE 6717-01-P